ENVIRONMENTAL PROTECTION AGENCY

[FRL-7431-5]

Comprehensive Environmental Response, Compensation and Liability Act (CERCLA) or Superfund, Section 104(k)(6); Announcement of Extension of Proposal Deadlines for the Competition for the 2003 National Brownfields Job Training Grants

AGENCY: Environmental Protection Agency.

ACTION: Notice of the extension of application deadline for submissions of proposals for Brownfields Job Training Grants.

SUMMARY: The United States Environmental Protection Agency (EPA) will begin to accept proposals for the National Brownfields Job Training Grants on December 17, 2002 (67 FR 242). The deadline for the due date of proposals has been extended until February 14, 2003. This notice refers to Federal Register Notice titled “Announcement of Proposal Deadlines for the Competition for the 2003 National Brownfields Job Training Grants.”

DATES: This action is effective as of December 27, 2002. The application deadline for proposals for the 2003 job training grants has been extended until February 14, 2003. All proposals must be postmarked by USPS or delivered to U.S. EPA Headquarters no later than February 14, 2003, and a duplicate copy sent to the appropriate U.S. EPA Regional Office.

Obtaining Proposal Guidelines: The proposal guidelines are available via the Internet: http://www.epa.gov/brownfields/.

Copies of the proposal guidelines will also be mailed upon request. Requests should be made by calling the U.S. EPA Call Center at the following numbers:

Washington, DC Metro Area at 703-412-9810.

Outside Washington, DC Metro at 1-800-424-9346.

TDD for the Hearing Impaired at 1-800-553-7672.

In order to ensure that the guidelines are received in time to be used in the preparation of the proposal, applicants should request a copy as soon as possible and in any event no later than seven (7) working days before the proposal due date. Applicants who request copies after that date might not receive the proposal guidelines in time to prepare and submit a responsive proposal.

ADDRESSES: Mailing addresses for U.S. EPA Regional Offices and U.S. EPA Headquarters are provided in the Proposal Guidelines.

FOR FURTHER INFORMATION CONTACT: The U.S. EPA's Office of Solid Waste and Emergency Response, Office of Brownfields Cleanup and Redevelopment, (202) 566-2777.

SUPPLEMENTARY INFORMATION: On January 11, 2002, President George W. Bush signed into law the Small Business Liability Relief and Brownfields Revitalization Act. This act amended the Comprehensive Environmental Response, Compensation and Liability Act of 1980, as amended (CERCLA) to authorize federal financial assistance for brownfields revitalization, including grants for assessment, cleanup, and job training. Funding for the brownfields job training grants is authorized under section 104(k)(6) of CERCLA, 42 U.S.C. 9604(k)(6). Eligibility for Brownfields job training grants is limited to “eligible entities” as defined in section 104(k)(1) of CERCLA and non profit organizations.

Dated: December 19, 2002.
Linda Garczynski,
Director, Office of Brownfields Cleanup and Redevelopment, Office of Solid Waste and Emergency Response.

[FR Doc. 02-32772 Filed 12-26-02; 8:45 am]

BILLING CODE 6560-50-P